ENVIRONMENTAL PROTECTION AGENCY

[FRL-12025-01-OA]

Announcement of Meeting of the National Environmental Education Advisory Council

AGENCY: Environmental Protection Agency (EPA).

ACTION: Notice of meeting.

SUMMARY: Under the Federal Advisory Committee Act (FACA), the Environmental Protection Agency (EPA) gives notice of a virtual meeting of the National Environmental Education Advisory Council (NEEAC). The NEEAC was created by Congress to advise, consult with, and make recommendations to the Administrator of the Environmental Protection Agency on matters related to activities, functions, and policies of EPA under the National Environmental Education Act (the Act). This meeting will be open to the public. For information on public attendance and participation, please see the registration information under SUPPLEMENTARY INFORMATION. The purpose of this meeting is to review the NEEAC charge and develop a work plan to produce the report to the EPA Administrator on the status of environmental education as stated in the National Environmental Education Act of 1990.

DATES: The National Environmental Education Advisory Council will hold a virtual public meeting on Thursday, June 27th, 2024, from 10:00 a.m. until 3:00 p.m. Central Standard Time. A link for participation will be provided upon request.

FOR FURTHER INFORMATION CONTACT: Javier Araujo, Designated Federal Officer, araujo.javier@epa.gov, 202-441-8981, U.S. EPA, Office of Environmental Education, William Jefferson Clinton North Room, 1426, 1200 Pennsylvania Avenue NW, Washington, DC 20460.

Information on Accessibility: For information to access or services for individuals requiring accessibility accommodations, please contact Javier Araujo by email at araujo.javier@epa.gov. To request accommodation, please do so five (5) business days prior to the meeting, to give as much time as possible to process your request.

SUPPLEMENTARY INFORMATION: Members of the public wishing to gain access to the virtual meeting, make brief oral comments, or provide a written statement to the NEEAC must register by contacting Javier Araujo, Designated Federal Officer, at araujo.javier@epa.gov by June 20, 2024 (5) business days prior to the scheduled meeting. Oral comments at this meeting will be limited to three minutes and will be accommodated as time permits.

Once available, the agenda and other supporting materials will be available online at: https://www.epa.gov/education/national-environmental-education-advisory-council-neeac.

Meeting Access: For information on access or services for individuals with disabilities or to request accommodations, please contact Javier Araujo at araujo.javier@epa.gov or 202-441-8981, preferably at least (5) business days prior to the meeting, to give EPA as much time as possible to process your request.

Jessica Loya,
Deputy Associate Administrator, Office of Public Engagement and Environmental Education.

[FR Doc. 2024-12510 Filed 6-6-24; 8:45 am]

BILLING CODE 6560-50-P